DEPARTMENT OF THE INTERIOR

Bureau of Reclamation

[FES 05-16]

Central Valley Project Long-Term Water Service Contract Renewals—American River Division

AGENCY: Bureau of Reclamation, Interior.

ACTION: Notice of availability of the final environmental impact statement (FEIS).

SUMMARY: Pursuant to the National Environmental Policy Act (NEPA) of 1969 (as amended) the Bureau of Reclamation (Reclamation), as lead Federal agency, has prepared a FEIS for the Central Valley Project Long-Term Water Service Contract Renewals—American River Division. The FEIS describes and presents the environmental effects of four alternatives, including no action, for renewal of water service contracts to American River Division contractors that include; the City of Roseville, East Bay Municipal District, El Dorado Irrigation District, Placer County Water Agency, Sacramento County Water Agency, Sacramento Municipal Utilities District, and San Juan Water District.

A Notice of Availability of the Draft Environmental Impact Statement (DEIS) was published in the Federal Register on January 19, 2005 (70 FR 3066). The written comment period on the DEIS ended on March 21, 2005. The FEIS contains responses to all comments received and reflects comments and any additional information received during the review period.

DATES: Reclamation will not make a decision on the proposed action until at least 30 days after release of the FEIS. At the end of the 30-day period, Reclamation will complete a Record of Decision (ROD). The ROD will state the action that will be implemented and will discuss all factors leading to the decision.

ADDRESSES: Copies of the FEIS may be requested from Ms. Sammie Cervantes, Bureau of Reclamation, 2800 Cottage Way, Sacramento, CA 95825 or by calling 916-978-5104, TDD 916-978-5608. See SUPPLEMENTARY INFORMATION section for locations where copies of the FEIS are available for public review.

FOR FURTHER INFORMATION CONTACT: David Robinson, Environmental Specialist, Bureau of Reclamation, at 916-989-7179, TDD 916-989-7285.

SUPPLEMENTARY INFORMATION: The FEIS addresses impacts related to renewal of long-term water service contracts delivering Central Valley Project water for irrigation and municipal and industrial uses to eight districts in the American River Division. The FEIS describes and analyzes the effects of contract renewals on fish resources, vegetation and wildlife, hydrology and water quality, recreation, visual and cultural resources, land use, geology and soils, traffic and circulation, air quality, noise, and hazards and hazardous materials.

Copies of the FEIS are available for public review at the following locations:

• Bureau of Reclamation, Denver Office Library, Building 67, Room 167, Denver Federal Center, 6th and Kipling, Denver, CO 80225, 303-445-2072;

• Bureau of Reclamation, Office of Public Affairs, 2800 Cottage Way, Sacramento, CA 95825-1898, 916-978-5100;

• Bureau of Reclamation, Central California Area Office, 7794 Folsom Dam Road, Folsom, CA 95630, 916-988-1707;

• Natural Resources Library, U.S. Department of the Interior, 1849 C Street, NW., Main Interior Building, Washington, DC 20240-0001.

Reclamation's practice is to make comments including names and home addresses of respondents available for public review. Individual respondents may request that we withhold their home address from public disclosure, which will be honored to the extent allowable by law. There may be circumstances in which a respondent's identity may also be withheld from public disclosure, as allowable by law. If you wish to have your name and/or address withheld, you must state this prominently at the beginning of your comment. All submissions from organizations or businesses, and from individuals identifying themselves as representatives or officials of organizations or businesses, will be made available for public disclosure in their entirety.

Dated: May 3, 2005.
John F. Davis,
Deputy Regional Director, Mid-Pacific Region.

[FR Doc. 05-12765 Filed 6-27-05; 8:45 am]

BILLING CODE 4310-MN-P